DEPARTMENT OF COMMERCE

National Institute of Standards and Technology

Information Security and Privacy Advisory Board

AGENCY: National Institute of Standards and Technology, Department of Commerce.

ACTION: Notice of open meeting.

SUMMARY: National Institute of Standards and Technology (NIST)'s Information Security and Privacy Advisory Board (ISPAB) will hold an open meeting on Wednesday, January 21, 2026, from 10:00 a.m. until 4:30 p.m., Eastern Time and Thursday, January 22, 2026, from 10:00 a.m. until 4:30 p.m., Eastern Time.

DATES: The ISPAB will meet on Wednesday, January 21, 2026, from 10:00 a.m. until 4:30 p.m., Eastern Time and Thursday, January 22, 2026, from 10:00 a.m. until 4:30 p.m., Eastern Time.

ADDRESSES: The meeting will be held at the National Cybersecurity Center of Excellence, 9700 Great Seneca Highway, Rockville, Maryland 20850 with an option to join virtually. Please note admittance instructions under the SUPPLEMENTARY INFORMATION section of this notice.

FOR FURTHER INFORMATION CONTACT: Jeff Brewer, ISPAB Designated Federal Official, National Institute of Standards and Technology, Telephone (301) 975-2489. Mr. Brewer's email address is jeffrey.brewer@nist.gov.

SUPPLEMENTARY INFORMATION:

Authority: The ISPAB was established to function solely as an advisory body, in accordance with the provisions of the Federal Advisory Committee Act, as amended, 5 U.S.C. 1001 et seq. The Board reports to the Director of NIST and reports its findings annually to the Secretary of Commerce, the Secretary of Homeland Security, the Director of the Office of Management and Budget, the Director of the National Security Agency, and appropriate committees of Congress. The Board is authorized under 15 U.S.C. 278g-4 and tasked with identifying emerging managerial, technical, administrative, and physical safeguard issues relative to information security and privacy.

Pursuant to the Federal Advisory Committee Act, as amended, 5 U.S.C. 1001 et seq., notice is hereby given that the ISPAB will hold an open meeting Wednesday, January 21, 2026, from 10:00 a.m. until 4:30 p.m., Eastern Time and Thursday, January 22, 2026, from 10:00 a.m. until 4:30 p.m., Eastern Time and will be open to the public. The primary purpose of this meeting is to discuss and deliberate potential recommendations. The agenda may change to accommodate ISPAB business. The final agenda will be posted on the NIST website at https://csrc.nist.gov/Events/2026/ispab-january-2026-meeting, and is expected to include the following items:

—Board Introductions and Member Activities,

—Discussion on NIST's Secure Software Development Framework (SSDF),

—Discussion on Agentic Artificial Intelligence (AI) Security,

—Update on NIST's National Vulnerability Database (NVD) by a member of NIST's NVD Team,

—Update from NIST's Computer Security Division (CSD) Activities by CSD's Division Chief,

—Update from NIST's Applied Security Division (ACD) Activities by ACD's Division Chief,

—Public comments,

—Board Discussions and Recommendations.

Individuals and representatives of organizations who would like to offer comments and suggestions related to the Board's business are invited to request a place on the agenda. Approximately thirty minutes will be reserved for public comments and speaking times will be assigned on a first-come, first-serve basis. The amount of time per speaker will be determined by the number of requests received but is likely to be about five minutes each. Speakers who wish to expand upon their oral statements, those who had wished to speak but could not be accommodated on the agenda, and those who were unable to participate are invited to submit written statements by email to jeffrey.brewer@nist.gov.

All in-person attendees, including NIST staff, are required to pre-register to be admitted. Please register via the ISPAB website at https://csrc.nist.gov/Events/2026/ispab-january-2026-meeting by 5:00 p.m. Eastern Time, January 14, 2026. There is no deadline to register for the virtual only option. For attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. Non-U.S. citizens must submit additional information. For detailed information please visit: http://nist.gov/public_affairs/visitor/.

Alicia Chambers,
NIST Executive Secretariat.

[FR Doc. 2025-21825 Filed 12-2-25; 8:45 am]

BILLING CODE 3510-13-P